DEPARTMENT OF THE INTERIOR

Bureau of Reclamation

[RR83570000, 189R5065C6, RX.59389832.1009676; OMB Control Number 1006-0002]

Agency Information Collection Activities; Recreation Use Data Report

AGENCY: Bureau of Reclamation, Interior.

ACTION: Notice of information collection; request for comment.

SUMMARY: In accordance with the Paperwork Reduction Act of 1995, we, the Bureau of Reclamation (Reclamation), are proposing to renew an information collection with revisions.

DATES: Interested persons are invited to submit comments on or before September 24, 2018.

ADDRESSES: Send your comments on this information collection request (ICR) by mail to Ronnie Baca, Bureau of Reclamation, Office of Policy and Administration, 84-57000, P.O. Box 25007, Denver, CO 80225-0007; or by email to rbaca@usbr.gov. Please reference OMB Control Number 1006-0002 in the subject line of your comments.

FOR FURTHER INFORMATION CONTACT: To request additional information about this ICR, contact Ronnie Baca by email at rbaca@usbr.gov, or by telephone at 303-445-3257.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of Reclamation; (2) will this information be processed and used in a timely manner; (3) is the estimate of burden accurate; (4) how might Reclamation enhance the quality, utility, and clarity of the information to be collected; and (5) how might Reclamation minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Reclamation collects agency-wide recreation and concession information to fulfill congressional reporting requirements pursuant to current public laws, including the Land and Water Conservation Fund Act (Pub. L. 88-578), the Federal Water Project Recreation Act (Pub. L. 89-72), and the Federal Lands Recreation Enhancement Act (Pub. L. 108-477). In addition, collected information will permit relevant program assessments of resources managed by Reclamation, its recreation managing partners, and/or concessionaires for the purpose of contributing to the implementation of Reclamation's mission. More specifically, the collected information enables Reclamation to (1) evaluate the effectiveness of program management based on existing recreation and concessionaire resources and facilities, and (2) validate the efficiency of resources for public use within partner managed recreation resources, located on Reclamation project lands in the 17 Western States.

Title of Collection: Recreation Use Data Report.

OMB Control Number: 1006-0002.

Form Number: Form 7-2534—Managing Partners and Direct Managed Recreation Areas.

Type of Review: Revision of a currently approved collection.

Respondents/Affected Public: State, local, or tribal governments; agencies who manage Reclamation's recreation resources and facilities; and commercial concessions, sub-concessionaires, and nonprofit organizations located on Reclamation lands with associated recreation services.

Total Estimated Number of Annual Respondents: 212.

Total Estimated Number of Annual Responses: 212.

Estimated Completion Time per Response: See table.

Total Estimated Number of Annual Burden Hours: 120 hours.

Respondent's Obligation: Required to obtain or retain a benefit.

Frequency of Collection: Annually.

Total Estimated Annual Nonhour Burden Cost: 0.

Section of form | Burden estimate per form (in minutes) | Annual number of respondents | Annual burden on respondents (in hours)
Form 7-2534, Section 1 only: Managing Partners | 30 | 156 | 78
Form 7-2534 (Section 1, Managing Partners & Section 2, Concessionaires) | 45 | 56 | 42
Total Burden Hours |  |  | 120

An agency may not conduct or sponsor and a person is not required to respond to a collection of information unless it displays a currently valid OMB control number.

The authority for this action is the Paperwork Reduction Act of 1995 (44 U.S.C. 3501 et seq).

Dated: June 12, 2018.
Ruth Welch,
Director, Policy and Administration.

[FR Doc. 2018-15911 Filed 7-24-18; 8:45 am]

BILLING CODE 4332-90-P